DEPARTMENT OF COMMERCE

International Trade Administration

Notice of Change in Practice Regarding Upcoming Sunset Reviews

AGENCY: Import Administration, International Trade Administration, Department of Commerce.

ACTION: Notification of Upcoming Sunset Reviews—Change in Practice.

Every five years, pursuant to section 751(c) of the Tariff Act of 1930, as amended (the Act), the Department of Commerce (the Department) automatically initiates and conducts reviews to determine whether revocation of a countervailing or antidumping duty order or termination of an investigation suspended under section 704 or 734 of the Act would be likely to lead to continuation or recurrence of dumping or a countervailable subsidy and of material injury. In conjunction with this activity, the Department's practice has been to notify, in advance, by certified or registered mail, all persons on the service list for each proceeding subject to a sunset review of the approximate date of publication in the Federal Register of the automatic initiation of the sunset review. This notification is not required by statute but is done as a service to the international trading community.

The Department is announcing its intention to discontinue this practice. Instead, beginning with sunset reviews initiated in June 2005, the Department will provide this advance notification of upcoming sunset reviews through a monthly notice published in the Federal Register. This notice of upcoming sunset reviews will be published in the month prior to the month of initiation.

FOR FURTHER INFORMATION CONTACT: Kelly Parkhill or Gary Taverman, Import Administration, International Trade Administration, U.S. Department of Commerce, at (202) 482-3791 or (202) 482-1061.

Dated: April 27, 2005.
Barbara E. Tillman,
Acting Assistant Secretary for Import Administration.

[FR Doc. E5-2141 Filed 5-2-05; 8:45 am]

BILLING CODE 3510-DS-P